DEPARTMENT OF COMMERCE

Foreign-Trade Zones Board

[B-20-2013]

Authorization of Production Activity; Subzone 196A; TTI, Inc. (Electromechanical and Circuit Protection Devices Production/Kitting); Fort Worth, Texas

On February 13, 2013, TTI, Inc. submitted a notification of proposed production activity to the Foreign-Trade Zones (FTZ) Board for its facility within Subzone 196A, in Fort Worth, Texas.

The notification was processed in accordance with the regulations of the FTZ Board (15 CFR part 400), including notice in the Federal Register inviting public comment (78 FR 15683, 03-12-2013). The FTZ Board has determined that no further review of the activity is warranted at this time. The production activity described in the notification is authorized, subject to the FTZ Act and the Board's regulations, including Section 400.14.

Dated: June 13, 2013.
Elizabeth Whiteman,
Acting Executive Secretary.

[FR Doc. 2013-14774 Filed 6-19-13; 8:45 am]

BILLING CODE 3510-DS-P